DEPARTMENT OF AGRICULTURE

Forest Service

Tongass National Forest; Alaska; Bell Island Geothermal Leases Supplemental Environmental Impact Statement

AGENCY: Forest Service, U.S. Department of Agriculture.

ACTION: Notice of intent to prepare an environmental impact statement.

SUMMARY: The U.S. Department of Agriculture, Forest Service, Tongass National Forest will prepare a supplemental environmental impact statement (SEIS) to a 2008 programmatic environmental impact statement (PEIS) titled Geothermal Leasing in the Western United States. This analysis is needed for consent determination to allow the Bureau of Land Management (BLM) to issue three pending leases to a private geothermal developer. These leases encompass much of Bell Island and a portion of the Cleveland Peninsula on the adjacent mainland in the Alexander Archipelago of Southeast Alaska.

The agency invites comments and suggestions on the scope of the analysis to be included in the draft SEIS. In addition, the agency gives notice of this environmental analysis and decision making process so that interested and affected people know how they may participate and contribute to the final decision.

DATES: Comments concerning the scope of the analysis must be received by June 24, 2011. The draft SEIS is projected to be filed with the Environmental Protection Agency (EPA) in the fall 2011 and will begin a 45 day comment period. The Final Environmental Impact Statement and the Record of Decision are expected to be published in the spring of 2012.

ADDRESSES: You may comment on the project in the following ways: Send written comments to Ketchikan-Misty Fiord Ranger District, Tongass National Forest, Attn: Bell Island Geothermal Lease, 3031 Tongass Ave., Ketchikan AK 99901. Comments may also be sent via e-mail to comments-alaska-tongass-ketchikan-mistyfiord@fs.fed.us, with Bell Island on the subject line; or via facsimile to 907-225-8738. Include your name, address and organization name if you are commenting as a representative of an organization.

FOR FURTHER INFORMATION CONTACT: Sarah Samuelson, Tongass Minerals Group, 8510 Mendenhall Loop Road, Juneau, AK 99801. 1-907-789-6274. Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of this initiative is to update the PEIS that was prepared by the BLM to address compliance actions and key resource concerns not previously analyzed in Volume II, Chapter 11 of the PEIS. Chapter 11 examines whether or not three pending lease applications on Bell Island and Cleveland Peninsula are available for geothermal leasing by the BLM. The PEIS did not recognize that the lease applications are in the North Cleveland Inventoried Roadless Area (IRA) 529, nor was adequate public scoping or tribal consultation performed. Thus, the analysis provided in the PEIS does not address actual current conditions. The Tongass National Forest must update the PEIS to analyze effects to the roadless area before making a decision whether or not to consent to leasing the land.

The action is needed to fulfill the Forest Service obligations under Section 225 of the Energy Policy Act of 2005 and the Memorandum of Understanding between the United States Department of the Interior (USDOI) and the United States Department of Agriculture (USDA) regarding geothermal leasing and permitting. Section 225 of the Energy Policy Act of 2005 requires that the USDOI and the U.S. Forest Service reduce the backlog of geothermal lease applications by 90 percent by August 8, 2010. Section 222(d) dictates that it is a priority for the BLM and the Forest Service to ensure timely completion of actions such as amendments to land use plans, as necessary to process the pending lease applications. This action responds to the goals and objectives outlined in the 2008 Tongass Land and Resource Management Plan (Forest Plan) and helps move the Tongass National Forest towards desired conditions described in this plan.

Proposed Action

The action proposed to meet the purpose and need is for the Forest Service to provide a consent determination to the BLM to issue the three leases in the Tongass National Forest to the geothermal lease applicant, based upon the Reasonably Foreseeable Development Scenario (RFD) provided by the PEIS Volume II, Chapter 11. The RFD describes in general terms the best professional estimate of the potential development that may occur. The decision on this SEIS would only be for an approving or disapproving consent determination for the BLM to issue the leases. Any future site-specific development of the leases would require further analysis under NEPA.

The project area is 7,680 acres encompassing most of Bell Island as well as a portion of the Cleveland Peninsula, on the adjacent mainland. Bell Island is located near the southeastern end of the Alaskan Panhandle; approximately 43 miles north of Ketchikan. Lease boundaries could be adjusted in the decision to avoid unacceptable impacts on sensitive resources. The three leases are described as follows:

—Lease AK 084543 includes approximately 2,560 acres, comprised of four contiguous sections, as follows: T68S R89E S36; T68S R90E S29, S30, S31

—Lease AK 084544 includes approximately 2,560 acres, comprised of the following four contiguous sections: T68S R90E S15, S21, S22, and S28

—Lease AK 084545 includes approximately 2,560 acres, comprised of the following four contiguous sections: T68S R90E S12, S13, S14; T68S R91E S7

Two alternatives were considered in Volume II, Chapter 11 of the PEIS analysis. In Alternative A, the No- Action Alternative, the Forest Service would not issue a consent determination for any of the lease applications. For Alternative B, Leasing with Stipulations, the Forest Service would issue a consent determination for the lease applications, and the BLM would issue the leases with the stipulations identified in Volume I, Chapter 2 of the PEIS and any additional stipulations that the Forest Service attaches to the record of decision (ROD).

Responsible Official

The Forest Supervisor, Tongass National Forest, Federal Building, Ketchikan, Alaksa, 99901 is the Responsible Official for making the decision.

Nature of Decision To Be Made

Given the purpose and need, the deciding official reviews the proposed action, the other alternatives, and the environmental consequences in order to make the following decisions:

—Will the Tongass National Forest consent to three pending lease applications on National Forest Systems lands?

—If so, what mitigation measures in the form of lease stipulations will the Forest Service apply to the lease application?

—Does the project require a Forest Plan amendment?

If authorized, the decision would give consent to BLM to issue three pending leases with the stipulations identified in Chapter 2 of the PEIS and any additional stipulations that the Forest Service attaches to the ROD.

Preliminary Issues

The Tongass National Forest portions of the lease sites are within the North Cleveland IRA 529, comprised of 109,639 acres. A non-discretionary restriction (roadless area stipulation) was developed in the PEIS for roadless areas on any leases with National Forest Service (NFS) inventoried roadless areas. Due to a Tongass 2004 exemption to the roadless rule, the roadless designation was not acknowledged in Volume II, Chapter 11of the PEIS for Bell Island; therefore, this restriction was not identified. Before consent to the lease application can be determined, stipulations associated with this activity will need to be identified.

Scoping Process

This notice of intent initiates the scoping process, which guides the development of the environmental impact statement. In addition to this notice, a scoping document will be posted on the Tongass National Forest public website at http://www.fs.fed.us/r10/tongass/projects/projects.shtml. Scoping letters inviting comments will be sent to interested parties on the Tongass National Forest. Any person who would like to receive a scoping letter should contact Linda Pulliam at the Ketchikan Misty Fiord Ranger District or by e-mail: comments-alaska-tongass-ketchikan-mistyfiord@fs.fed.us, please put “Bell Island” in the subject line of the e-mail. A public meeting will be held at Ketchikan-Misty Fiord Ranger District 3031 Tongass Ave., Ketchikan, Alaska, 99901 on Thursday, June 2, 2011 from 3-7 p.m.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however anonymous comments will not provide the respondent with standing to participate in subsequent administrative review or judicial review.

Dated: May 16, 2011.
Forrest Cole,
Forest Supervisor.

[FR Doc. 2011-12915 Filed 5-24-11; 8:45 am]

BILLING CODE 3410-11-P